ENVIRONMENTAL PROTECTION AGENCY

[OPP-66285; FRL-6776-8]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations.

DATES: Unless a request is withdrawn by, October 22, 2001, unless indicated otherwise, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 224, Crystal Mall No. 2, 1921 Jefferson Davis Highway, Arlington, VA 22202, (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information or Copies of Support Documents?

1. Electronically. You may obtain electronic copies of this document and certain other related documents that might be available electronically, from the EPA Internet Home Page at http://www.epa.gov. To access this document, on the Home page select “Laws and Regulations” “Regulations and Proposed Rules,” and then look up the entry for this document under the “Federal Register—Environmental Documents.” You can also go directly to the Federal Register listing at (http://www.epa.gov/fedrgstr/).

2. In person. Contact James A. Hollins at 1921 Jefferson Davis Highway, Crystal Mall No. 2, Rm. 224, Arlington, VA, telephone number (703) 305-5761. Available from 7:30 a.m. to 4:45 p.m., Monday thru Friday, excluding legal holidays.

II. What Action is the Agency Taking?

This notice announces receipt by the Agency of applications from registrants to cancel some 52 pesticide products registered under section 3 or 24(c) of FIFRA. These registrations are listed in sequence by registration number (or company number and 24(c) number) in the following Table 1.

Table 1. — Registrations With Pending Requests for Cancellation
Registration No. | Product Name | Chemical Name
000100-00785 | D.Z.N Diazinon Indoor/Outdoor WBC | O,O-Diethyl O-(2-isopropyl-6-methyl-4-pyrimidinyl) phosphorothioate
000100 TX-00-0004 | Tilt Gel Fungicide | 1-((2-(2,4-Dichlorophenyl)-4-propyl-1,3-dioxolan-2-yl)methyl)-1H-1,2,4-triazole
000352 TX-83-0002 | Dupont Velpar L Weed Killer | 3-Cyclohexyl-6-(dimethylamino)-1-methyl-1,3,5-triazine-2,4(1H,3H)-dione
000400 TX-00-0003 | Micromite 25W | 1-(4-Chlorophenyl)-3-(2,6-difluorobenzoyl)urea
000524 TX-96-0014 | Mon-65005 Herbicide | Isopropylamine glyphosate (N-(phosphonomethyl)glycine)
000707 TX-96-0004 | Goal 1.6E Herbicide | 2-Chloro-1-(3-ethoxy-4-nitrophenoxy)-4-(trifluoromethyl)benzene
000769-00540 | Suregard Captan 50-WP Agricultural Fungicide | cis-N-Trichloromethylthio-4-cyclohexene-1,2-dicarboximide
000769-00894 | Pratt Betasan 12.5 G | S-(O,O-Diisopropyl phosphorodithioate) ester of N-(2-mercaptoethyl)benzenesulfonamide
000769-00895 | Pratt Betasan 4-EC | S-(O,O-Diisopropyl phosphorodithioate) ester of N-(2-mercaptoethyl)benzenesulfonamide
000769-00896 | Pratt Betasan 7-G | S-(O,O-Diisopropyl phosphorodithioate) ester of N-(2-mercaptoethyl)benzenesulfonamide
000769-00897 | Pratt Betasan 3.6-G | S-(O,O-Diisopropyl phosphorodithioate) ester of N-(2-mercaptoethyl)benzenesulfonamide
001381-00164 | Agrox D-L Plus | Lindane (Gamma isomer of benzene hexachloride) (99% pure gamma isomer)
|  | O,O-Diethyl O-(2-isopropyl-6-methyl-4-pyrimidinyl) phosphorothioate
|  | cis-N-Trichloromethylthio-4-cyclohexene-1,2-dicarboximide
001448-00344 | Busan 1126 | 2-(Thiocyanomethylthio)benzothiazole
|  | Methylene bis(thiocyanate)
001706-00202 | Tektamer 38 O.A. | 1-Bromo-1-(bromomethyl)-1,3-propanedicarbonitrile
001812-00434 | Glyphosate Original Herbicide | Isopropylamine glyphosate (N-(phosphonomethyl)glycine)
003125-00352 | Tempo 2 Lawn and Ornamental Insecticide | Cyano(4-fluoro-3-phenoxyphenyl)methyl 3-(2,2-dichloroethenyl)-2,2-
003125 CA-92-0025 | Di-Syston 8 | O,O-Diethyl S-(2-(ethylthio)ethyl) phosphorodithioate
003125 ID-85-0016 | Di-Syston 15% Granular Systemic Insecticide | O,O-Diethyl S-(2-(ethylthio)ethyl) phosphorodithioate
003125 ME-88-0001 | Di-Syston | O,O-Diethyl S-(2-(ethylthio)ethyl) phosphorodithioate
003125 MT-80-0004 | Di-Syston 15% Granular Systemic Insecticide | O,O-Diethyl S-(2-(ethylthio)ethyl) phosphorodithioate
003125 NM-88-0001 | Di-Syston 8 | O,O-Diethyl S-(2-(ethylthio)ethyl) phosphorodithioate
003125 OK-88-0002 | Di-Syston 8 | O,O-Diethyl S-(2-(ethylthio)ethyl) phosphorodithioate
003125 OR-80-0034 | Di-Syston 15% Granular Systemic Insecticide | O,O-Diethyl S-(2-(ethylthio)ethyl) phosphorodithioate
003125 OR-91-0020 | Tempo 2 Ornamental Pyrethroid Insecticide | Cyano(4-fluoro-3-phenoxyphenyl)methyl 3-(2,2-dichloroethenyl)-2,2-
003125 VA-92-0006 | Di-Syston 15% Granular Systemic Insecticide | O,O-Diethyl S-(2-(ethylthio)ethyl) phosphorodithioate
003125 WA-92-0021 | Tempo 2 Ornamental Pyrethroid Insecticide | Cyano(4-fluoro-3-phenoxyphenyl)methyl 3-(2,2-dichloroethenyl)-2,2-
003125 WY-87-0004 | Di-Syston 8 | O,O-Diethyl S-(2-(ethylthio)ethyl) phosphorodithioate
004822-00127 | Raid Ant and Roach Killer Formula II | o-Isopropoxyphenyl methylcarbamate
004822-00315 | Raid Ant & Roach Killer 2 | o-Isopropoxyphenyl methylcarbamate
004822-00316 | Raid Ant & Roach Killer 3 | o-Isopropoxyphenyl methylcarbamate
004822-00317 | Raid-Flying Insect Killer II | d-cis-trans-Allethrin
|  | (Butylcarbityl)(6-propylpiperonyl) ether 80% and related compounds 20%
|  | (1-Cyclohexene-1,2-dicarboximido)methyl 2,2-dimethyl-3-(2-methylpropenyl)cycloprop
|  | (3-Phenoxyphenyl)methyl d-cis and trans* 2,2-dimethyl-3-(2-methylpropenyl)cyclopro
005887-00135 | Black Leaf Weed and Crabgrass Preventer | S-(O,O-Diisopropyl phosphorodithioate) ester of N-(2-mercaptoethyl)benzenesulfonamide
005887-00162 | Black Leaf Liquid Fruit Tree Spray with Fungicide | Methoxychlor (2,2-bis(p-methoxyphenyl)-1,1,1-trichloroethane)
|  | 1-Naphthyl-N-methylcarbamate
|  | O,O-Dimethyl phosphorodithioate of diethyl mercaptosuccinate
|  | cis-N-Trichloromethylthio-4-cyclohexene-1,2-dicarboximide
005887-00171 | Rose Guard 8-12-6 | O,O-Diethyl S-(2-(ethylthio)ethyl) phosphorodithioate
|  | Trifluralin (α,α,α-trifluro-2,6-dinitro-N,N-dipropyl-p-toluidine) (Note: α = alpha)
007501-00054 | Gustafson Terraclor Super X 20-5 Dust with Graphite | Pentachloronitrobenzene
|  | 5-Ethoxy-3-(trichloromethyl)-1,2,4-thiadiazole
032802-00015 | Betasan 3.6G | S-(O,O-Diisopropyl phosphorodithioate) ester of N-(2-mercaptoethyl)benzenesulfonamide
034704-00701 | Clean Crop EPTC 7 EC | S-Ethyl dipropylthiocarbamate
050534 AR-90-0001 | Bravo 720 | Tetrachloroisophthalonitrile
050534 FL-90-0006 | Bravo 720 | Tetrachloroisophthalonitrile
050534 FL-91-0018 | Bravo 720 | Tetrachloroisophthalonitrile
050534 FL-95-0005 | Bravo 825 | Tetrachloroisophthalonitrile
050534 FL-97-0002 | Daconil 720 Flowable Fungicide | Tetrachloroisophthalonitrile
050534 FL-97-0003 | Daconil SDG | Tetrachloroisophthalonitrile
050534 NY-96-0005 | Bravo 720 | Tetrachloroisophthalonitrile
050534 OR-00-0022 | Daconil SDG | Tetrachloroisophthalonitrile
050534 SC-89-0007 | Bravo 720 | Tetrachloroisophthalonitrile
050534 SD-96-0005 | Bravo ZN | Tetrachloroisophthalonitrile
050534 WI-94-0002 | Bravo 720 | Tetrachloroisophthalonitrile
051036 WA-94-0035 | Dimethoate 4E | O,O-Dimethyl S-((methylcarbamoyl)methyl) phosphorodithioate
059639 AZ-89-0020 | Monitor 4 Spray | O,S-Dimethyl phosphoramidothioate
065361 CA-91-0027 | Daconil 2787 Flowable Fungicide | Tetrachloroisophthalonitrile
067760 OR-96-0003 | Fyfanon ULV | O,O-Dimethyl phosphorodithioate of diethyl mercaptosuccinate

Unless a request is withdrawn by the registrant within 180 days (30 days when requested by registrant) of publication of this notice, orders will be issued canceling all of these registrations. Users of these pesticides or anyone else desiring the retention of a registration should contact the applicable registrant during this comment period.

The following Table 2, includes the names and addresses of record for all registrants of the products in Table 1, in sequence by EPA company number.

Table 2. — Registrants Requesting Voluntary Cancellation
EPA Company No. | Company Name and Address
000100 | Syngenta Crop Protection, Inc., Box 18300, Greensboro, NC 27419.
000352 | E. I. Du Pont De Nemours & Company, Inc., Barley Mill Plaza, Walker's Mill, Wilmington, DE 19880.
000400 | Uniroyal Chemical Co, Inc., A Subsidiary of Crompton Corp., 74 Amity Rd, Bethany, CT 06524.
000524 | Monsanto Co., 600 13th Street, NW., Suite 660, Washington, DC 20005.
000707 | Rohm & Haas Co., Attn: Robert H. Larkin, 100 Independence Mall W., Philadelphia, PA 19106.
000769 | Verdant Brands, Inc., Agent For: Verdant Brands, Inc., 213 S.W. Columbia St., Bend, OR 97702.
001381 | Agriliance, LLC, Box 64089, St. Paul, MN 55164.
001448 | Buckman Laboratories Inc., 1256 North Mclean Blvd, Memphis, TN 38108.
001706 | Nalco Chemical Co., One Nalco Center, Naperville,, IL 60563.
001812 | Griffin L.L.C., Box 1847, Valdosta, GA 31603.
003125 | Bayer Corp., Agriculture Division, 8400 Hawthorn Rd., Box 4913, Kansas City, MO 64120.
004822 | S.C. Johnson & Son Inc., 1525 Howe Street, Racine, WI 53403.
005887 | Verdant Brands, Inc., Agent For: Verdant Brands, Inc., 213 S.W. Columbia St., Bend, OR 97702.
007501 | Gustafson LLC, 1400 Preston Rd., Suite 400, Planos, TX 75093.
032802 | Howard Johnson's Enterprises Inc., 700 W. Virginia St., Ste 222, Milwaukee, WI 53204.
034704 | Jane Cogswell, Agent For: Platte Chemical Co, Inc., Box 667, Greeley, CO 80632.
050534 | GB Biosciences Corp., c/o Zeneca Ag Products, 1800 Concord Pike, Box 15458, Wilmington, DE 19850.
051036 | Micro-Flo Co, Box 772099, Memphis, TN 38117.
059639 | Valent U.S.A Corp., 1333 N. California Blvd, Ste 600, Walnut Creek, CA 94596.
065361 | Glad-A-Way Gardens Inc., 2669 E. Clark Ave., Santa Maria, CA 93455.
067760 | Cheminova Inc., Oak Hill Park, 1700 Route 23 - Ste 210, Wayne, NJ 07470.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for cancellation must submit such withdrawal in writing to James A. Hollins, at the address given above, postmarked before October 22, 2001, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1-year after the date the cancellation request was received by the Agency. This policy is in accordance with the Agency's statement of policy as prescribed in Federal Register of June 26, 1991 (56 FR 29362) (FRL 3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Agricultural commodities, Pesticides and pests.

Dated: April 3, 2001.
Richard D. Schmitt,
Associate Director, Information Resources and Services Division, Office of Pesticide Programs.

[FR Doc. 01-10124 Filed 4-24-01; 8:45 a.m.]

BILLING CODE 6560-50-S